DEPARTMENT OF THE INTERIOR

Fish and Wildlife Service

Information Collection To Be Submitted to the Office of Management and Budget (OMB) for Approval Under the Paperwork Reduction Act (PRA)

AGENCY: Fish and Wildlife Service, Interior.

ACTION: Notice; request for comments.

SUMMARY: The U.S. Fish and Wildlife Service (Service) plans to submit the collection of information requirement described below to the Office of Management and Budget (OMB) for approval under the provisions of the Paperwork Reduction Act (PRA). A copy of this information collection is included in this notice. You may obtain additional copies of the collection requirement, related survey and explanatory material by contacting the Service's Information Collection Clearance Officer at the phone number listed below. The Service is soliciting comment and suggestions on the requirement as described below.

DATES: Interested parties must submit comments on or after December 26, 2000.

ADDRESSES: Interested parties should send comments and suggestions on the requirement to Rebecca A. Mullin, Information Collection Clearance Officer, U.S. Fish and Wildlife Service, 4401 North Fairfax Drive, Suite 222, Arlington, VA 22203, (703) 358-2278 or Rebecca_Mullin@fws,gov E-mail.

FOR FURTHER INFORMATION CONTACT: Steve Farrell, (703) 358-2156, fax (703) 358-1837, or Steve_Farrell@fws.gov E-mail.

SUPPLEMENTARY INFORMATION:

General

Comments regarding this survey were received as a result of the survey being published in the Federal Register, Volume 65, Number 13, pages 3331-3366, January 20, 2000. We received 57 comments from 12 respondents. Most comments pertained to minor textual changes to improve clarity, while others addressed specific questions, time burden on respondents, and implementation of the survey. Comments regarding textual changes were used in revising the survey to the extent possible.

Written Comments

Issue 1. Five comments suggested that the hours of burden are under estimated or too long.

Response: The hour burden was calculated through consultation with and sampling of state agencies and boating and fishing related not-for-profit organizations. While revising the survey instrument, we reduced the burden by 3 minutes for Parts A and B and by 5 minutes for parts C and D by shortening some questions and eliminating others.

Issue 2. Three respondents noted that the survey instrument sample sizes and suggested response rates are not adequate to assess boating access needs statewide.

Response: To allow the States maximum flexibility, States may determine the necessary sample size and methodology leading to response rates that ensure receipt of statistically valid information.

Issue 3. One comment suggested that Part A of the survey asks fishing related questions and is not applicable to this subset of boaters.

Response: The survey designers (listed in Section B.5 of this justification) represented State natural resource agencies and the boating and fishing communities. The Service received no indication that the fishing related questions did not apply to boaters using nontrailerable vessels. No changes were made to Part A in response to this comment.

Issue 4. A comment stated that questions regarding the length and draft of boats using facilities was unnecessary.

Response: We agree with this statement because the individual Parts of the survey define boat sizes and therefore we deleted the question.

Issue 5. One respondent requested definition of several terms including, “off-limits areas” and “seasonal use restrictions.”

Response: We edited questions 4 and 24 in Parts C and D, thereby eliminating the terms and clarifying the questions.

Issue 6. One comment suggested that Part C, question 6 be revised to include nontrailerable boater needs.

Response: Part C, as defined, addresses the needs of nontrailerable boats specifically. In response to this comment, we revised Part C, questions 6 (now question 4) to include permanent facilities for use by non-trailerable boats.

Issue 7. One comment suggested that service providers for nontrailerable boats cannot provide accurate information regarding repair and maintenance costs of boating facilities.

Response: We agree that question 11 in Part C and question 21 in Part D could not be answered accurately, therefore we removed the questions from the survey.

Issue 8. One respondent suggested that determining usage of facilities according to how boaters launch their vessels was unnecessary.

Response: The Service worked with state natural resource agencies and members of the boating and fishing communities to develop this survey and feels the information is necessary to adequately assess trailerable boating access needs. Therefore, we did not change this portion of the survey.

Issue 9. One comment suggested that respondents would not answer question 20 of Part D of each site.

Response: This information is necessary to assess boating facility conditions and needs. The survey was revised to allow respondents operating more than five facilities to estimate total needs for all facilities.

Issue 10. One comment suggested the survey require respondents to include personal information.

Response: Only information regarding the need for boating facilities is sought. The need for a national boating access needs assessment is not sufficient to justify collection of personal information. No change was made in response to this comment.

Issue 11. Four comments asked if additional questions may be asked of the respondents.

Response: Federal regulations prohibit alteration of an approved survey without seeking approval of the changes made from the Office of Management and Budget. Therefore, States may not add questions to this survey.

Issue 12. One comment suggested the use of a multiple choice format when asking boaters about preferred destinations (Part A question 9).

Response: The survey cannot be developed at a Federal level for implementation by individual States and include State specific data in a multiple choice format. Additionally, Part A, question 9 will yield anecdotal data useful in constructing State boating access plans. Therefore, no change was made in response to this comment.

Issue 13. One comment suggested that attempting to acquire longitude and latitude data from boat service providers is unreasonable.

Response: This data is necessary to allow State agencies to direct boaters to available services, recreation and other related activities. No change was made to the survey in response to this comment.

Issue 14. One comment suggested altering questions in Part C to focus on transient boater needs.

Response: We disagree as the survey is not intended to assess only the needs of transient boaters. This is a comprehensive assessment of all boating facility needs and as such we cannot focus questions on a subset of the total population.

Title: Boating Infrastructure Grant Program Survey.

OMB Control Number: 1018-0106 expires 3/31/2003. The Service may not conduct or sponsor, and a person is not required to respond to a collection of information unless it displays a currently valid OMB control number.

Service Form Number: 3-2187.

Frequency of Collection: One-time.

Description and Use: The Service administers the Boating Infrastructure Grant Program authorized by the Federal Aid in Sport Fish Restoration Act. Under the Act, as amended, the Service is responsible for development of a survey to assess the needs for facilities for recreational boaters. This survey was previously approved under the referenced OMB control number. This request is for approval of changes to the previously approved survey instrument. These changes include dropping certain questions, rewording others for clarity, and reformatting the questionnaire, making it easier to understand and use. Changes are discussed in detail in this notice under SUPPLEMENTARY INFORMATION.

Additional Information: The Service plans to submit the following information collection requirement to OMB for review and approval under the Paperwork Reduction Act of 1995, Public Law 104-13. Comments are invited on (1) whether the collection of information is necessary for the proper performance of the functions of the agency, including whether the information will have practical utility; (2) the accuracy of the agency's estimates of burden of the collection of information; (3) ways to enhance the quality, utility, and clarity of the information to be collected; and, (4) ways to minimize the burden of collection of information on respondents, including through the use of appropriate automated, electronic, mechanical, or other technological collection techniques or other forms of information technology.

Description of Respondents: States and the Commonwealth of Puerto Rico, the District of Columbia, the Commonwealth of the Northern Mariana Islands, Guam, the Virgin Islands, and American Samoa.

Completion Time and Response Estimate:

Type of information | Number of interviews* | Average time required per response (minutes) | Annual burden hours
Boat owners: Part A | 11,200 | 12 | 2,240
Boat owners: Part B | 28,000 | 12 | 5,600
Boat owners: Part C | 8,400 | 20 | 2,800
Boat owners: Part D | 4,000 | 20 | 1,333
Total |  |  | 11,973
*These numbers are not additive since some of the boaters will fill out both Parts A and B, and most of the providers will fill out both Parts C and D.

BOATING INFRASTRUCTURE GRANT PROGRAM NATIONAL FRAMEWORK

PART A: RECREATIONAL BOATING NEEDS ASSESSMENT QUESTIONNAIRE FOR BOATERS WITH BOATS 26 FEET OR MORE IN LENGTH

Please answer the following questions about your boating activities in [name of State]. [Add comment about confidentiality if applicable under state law]

1. Do you own a boat 26 feet or more in length?

□ Yes. □ No. You need not complete this questionnaire.

2. Have you boated in [name of State] within the past 2 years?

□ Yes. □ No. You need not complete this questionnaire.

3. Do you boat mainly for recreation (NOT for work)?

□ Yes. □ No. You need not complete this questionnaire.

4. What type of boat or boats do you own? (Please check all that apply)

□ Cabin cruiser (gasoline) □ Cabin cruiser (diesel) □ Sailboat

□ Houseboat/pontoon boat □ Open motor boat □ Trawler

□ Other (please specify) ___

FOR QUESTIONS 5-10 PLEASE REFER TO THE BOAT THAT YOU USE THE MOST

5. Where do you usually keep this boat during the boating season? (Please check the one that MOST applies. If you keep your boat in a location other than your home please name the specific site)

□ At water front property, which is your permanent residence

State

□ At waterfront property, which is your seasonal residence?

State

□ On the water at a public or private marina?

State/City/town:

Site name:

□ At a ‘dry-stack’ marina or other commercial/private facility?

State/City/town:

Site name:

□ Other (specify)

State/City/town:

Site name:

7. How many days a year do you use this boat to go boating in [name of state]? (Please check the one that MOST applies.)

□ Less than 10 times a year

□ 11 to 20 times a year

□ 20 to 50 times a year

□ More than 50 times a year

8. How long is a typical boating trip for you in [name of state]? (Please check the one that MOST applies.)

□ Day trips or weekends

□ Extended trips longer than one weekend

9. Where do you go in this boat? (Please check the one that MOST applies.)

□ On the water body in which it is kept

□ Connected waters up to 25 miles of ‘home port’

□ Connected waters more than 25 miles and less than 50 miles from ‘home port’

□ To destination ports over 50 miles

10. What is the average distance that you travel in your boat on a day of boating in [name of state]?

_____ miles.

11. Do you think there are enough transient tie-up facilities in [name of State]? (Please rate on a scale of 1 to 5.)

| No, need a lot more | No, need a few more | The right amount | Yes, more than enough | Yes, there are too many |
| 1 | 2 | 3 | 4 | 5 |

12. Please identify 3 areas in [name of State] where you see the greatest need for more transient tie-up facilities. (Please be as specific as possible and name the county, city or town, and the area name or location.)

Site name | County/city or town | Area name and/or location (such as lake, slough, bay, harbour, section of river or other)
Site #1
Site #2
Site #3

13. Thinking about the boating area(s) you just mentioned in Question #12, what kinds of features do you think are needed at each? (Please check all that apply.)

| Area #1 (specify) | Area #2 (specify) | Area #3 (specify)
Transient slip or tie-up facilities | □ | □ | □
Transient moorings | □ | □ | □
Fuel (gasoline) | □ | □ | □
Fuel (diesel) | □ | □ | □
Utilities (electric, water, phone) | □ | □ | □
Restrooms | □ | □ | □
Sewage pumpout stations | □ | □ | □
Other (specify) | □ | □ | □
Other (specify) | □ | □ | □
Other (specify) | □ | □ | □

14. Please rate how the following factors may impact your decision NOT to boat in (name of State) more frequently. (Please check one for each factor listed.)

| No impact | Low impact | Medium impact | High impact | Does not apply
Not enough transient slips, moorings, or tie-up facilities | □ | □ | □ | □ | □
Inaccessibility due to shallow water/channel depths | □ | □ | □ | □ | □
Not enough information about transient tie-up facility locations | □ | □ | □ | □ | □
Not enough adequate facilites (fuel, utilities, restrooms) | □ | □ | □ | □ | □
Congested waterways (boat traffic) | □ | □ | □ | □ | □
Poor water quality for fishing | □ | □ | □ | □ | □
Poor water quality for swimming | □ | □ | □ | □ | □
Other (specify) | □ | □ | □ | □ | □
Other (specify) | □ | □ | □ | □ | □
Other (specify) | □ | □ | □ | □ | □

15. How do you reach the shoreline from your boat? (Please check ALL that apply.)

□ Via shore-side slip or other transient tie-up facility

□ Via a dinghy from a moored or anchored position

□ Pulling onto shore or close to shore, using a gangway

□ Other

16. If you checked MORE THAN ONE option in Question #15 above, which do you prefer? (Please check the one that you MOST prefer.)

□ Via shore-side slip or other transient tie-up facility

□ Via a dinghy from a moored or anchored position

□ Pulling onto shore or close to shore, using a gangway

□ Other

17. What is the minimum water depth in feet required for safe operation of the boat you use the most?

□ _____ feet

18. Please use the space below to make any other comments or suggestions about recreational boating in your State.

In accordance with the Paperwork Reduction Act of 1995 (44 U.S.C. 3501) and the Privacy Act of 1974 (U.S.C. 552), please be advised that:

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted this survey becomes public information and is not protected under the Privacy Act. The public reporting burden for this survey is estimated at 10 to 25 minutes per response, including time for gathering information and completing. Direct comments to the Service Information Collection Clearance Officer, (1018-0106), U.S. Fish and Wildlife Service, MS 222-ARLSQ; 1849 C Street NW., Washington, DC 20240.

An agency may not conduct and a person is not required to complete a collection of information unless a currently valid OMB control number is displayed.

PART B: BOATING NEEDS ASSESSMENT QUESTIONNAIRE FOR BOATERS WITH BOATS UNDER 26 FEET IN LENGTH

Please answer the following questions about your boating activities in [name of State]. [Add comment about confidentiality if applicable under State law]

1. Do you own a boat under 26 feet in length?

□ Yes. □ No. You need not complete this questionnaire.

2. Have you boated in [name of State] within the past 2 years?

□ Yes. □ No. You need not complete this questionnaire.

3. Do you boat mainly for recreation (NOT for work)?

□ Yes. □ No. You need not complete this questionnaire.

4. What type of boat or boats do you own? (Please check all that apply.)

□ Cabin cruiser (gasoline)

□ Bass boat/jon boat

□ Inflatable boat/raft

□ Unpowered rowboat

□ Other (please specify) ___

□ Cabin cruiser (diesel)

□ Open motor boat

□ Houseboat/pontoon boat

□ Canoe/kayak

□ Sailboat

□ Jet drive boat

□ Personal water craft

□ Sailboard

FOR QUESTIONS 6-8 PLEASE REFER TO THE BOAT THAT YOU USE THE MOST

5. Where do you usually keep this boat during the boating season? (If you keep your boat in a location other than you home, please name the specific site.)

□ Public or private marina

□ At home on a trailer or in a rented dry storage area (that is not a marina)

□ Waterfront property that you own, rent, or lease

□ Other _____

7. How do you put your boat in the water in [name of State]?

□ I use a trailer

□ I carry it down to the water

8. How many miles (one way) do you typically transport the boat to go boating in [name of State]?

_____miles

9. Please identify 3 [name of State] areas where you see the greatest need for more boat access sites. (Please be as specific as possible and name the country, city or town, and the area name of location.)

Site | County/city or town | Area name and/or location (such as lake, slough, bay, harbor, section or river or other)
Site #1
Site #2
Site #3

10. Thinking about the boating area(s) you just mentioned in Question # 9, what kinds of support features do you think are needed at each? (Please check all that apply.)

| Site #1 (specify) | Site #2 (specify) | Site #3 (specify)
Carry-down walkway to the water's edge | □ | □ | □
Boarding floats | □ | □ | □
Launch ramp | □ | □ | □
Parking | □ | □ | □
Waste pumpouts | □ | □ | □
Restrooms/showers | □ | □ | □
Other (specify) | □ | □ | □
Other (specify) | □ | □ | □
Other (specify) | □ | □ | □

11. Please rate how the following factors may impact your decision NOT to boat in [name of State] more frequently. (Please check one for each factor listed.)

| No impact | Low impact | Medium impact | High impact | Does not apply
Not enough boat access sites | □ | □ | □ | □ | □
Not enough information about access site locations | □ | □ | □ | □ | □
Not enough adequate facilities (fuel, utilities, restrooms) | □ | □ | □ | □ | □
Congested waterways (boat traffic) | □ | □ | □ | □ | □
Poor water quality for fishing | □ | □ | □ | □ | □
Poor water quality for swimming | □ | □ | □ | □ | □
Other (specify) | □ | □ | □ | □ | □
Other (specify) | □ | □ | □ | □ | □
Other (specify) | □ | □ | □ | □ | □

12. Do you think there are enough boat access sites in [name of state]? (Please rate on a scale of 1 to 5.)

| No, need a lot more | No, need a few more | The right amount | Yes, more than enough | Yes, there are too many |
| 1 | 2 | 3 | 4 | 5 |

13. Please use the space below to make any other comments or suggestions about recreational boating in your State.

In accordance with the Paperwork Reduction Act of 1995 (44 U.S.C. 350-1) and the Privacy Act of 1974 (U.S.C. 552), please be advised that:

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted this survey becomes public information and is not protected under the Privacy Act. The public reporting burden for this survey is estimated at 10 to 25 minutes per response, including time for gathering information and completing. Direct comments to the Service Information Collection Clearance Officer, (1018-0106), U.S. Fish and Wildlife Service, MS 222-ARLSQ: 1849 C Street NW., Washington, DC 20240.

An agency may not conduct and a person is not required to complete a collection of information unless a currently valid OMB control number is displayed.

PART C

If you operate a marine or other tie-up facility in [name of State] that serves boats 26 feet or more in length, please answer the following questions. If you do not operate facilities for boats 26 feet or more in length but do operate an access site that services trailerable or car top boats under 26 feet in length, please go to Part D below.

IF YOU OPERATE MORE THAN 5 FACILITIES PLEASE ESTIMATE RESPONSES FOR ALL YOUR FACILITIES COMBINED, PLACE ANSWERS UNDER FACILITY #1.

RECREATIONAL BOATING NEEDS ASSESSMENT QUESTIONNAIRE FOR PROVIDERS

Please answer the following questions about your boating facility or access site in [name of State]. [Add comment about confidentiality if applicable under state law]

Are you a public or private boating facilities provider in [name of State]?

□ Private provider (Non-government agency)

□ Public provider (Government agency, includes private leases on Public land.)

□ Neither (You need not complete this questionnaire.)

1. How many boat facilities for boats over 26 feet do you operate in [name of State]

_____ facilities

2. Please list the boating facility or facilities in [name of State] that you operate or manage for boats 26 feet or more in length.

| Name of facility (marina, courtesy dock, etc.) | County/City or town | Area (Lake, cove, slough, bay, harbor or section of river) | Lat/Long or GPS
Facility #1:
Facility #2:
Facility #3:
Facility #4:
Facility #5:

3. For each facility listed in Question #2, indicate the requirements for boater use. Check all that apply. List facilities in same order as Question #2.

| None (first come first served) | Club membership required | Reservations required | Fee charged
Facility #1 | □ | □ | □ | □
Facility #2 | □ | □ | □ | □
Facility #3 | □ | □ | □ | □
Facility #4 | □ | □ | □ | □
Facility #5 | □ | □ | □ | □

4. For each facility listed in Question #2, estimate the number of transient tie-up slips, permanent tie-up slips, transient moorings and permanent moorings. (List facilities in same order as Question #2.)

| Number of transient slips/tie-ups | Number of permanent slips/tie-ups | Number of transient moorings | Number of permanent moorings
Facility #1:
Facility #2:
Facility #3:
Facility #4:
Facility #5:

5. For each facility listed in Question #2, identify the types of support features at the listed facilities. (Check all that apply. List facilities in same order as Question #2.)

| Gas fuel | Diesel fuel | Restrooms | Sewage pumpouts | Electricity | Water | Telephones
Facility #1 | □ | □ | □ | □ | □ | □ | □
Facility #2 | □ | □ | □ | □ | □ | □ | □
Facility #3 | □ | □ | □ | □ | □ | □ | □
Facility #4 | □ | □ | □ | □ | □ | □ | □
Facility #5 | □ | □ | □ | □ | □ | □ | □

6. For Facility #1 that you listed in Question #2 what repairs, replacements, expansions, or additions do you think are needed or you would do if you could? (Check all that apply. List facilities in same order as Question #2.)

Facility #1 (specify): | None needed | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Sewage pumpouts | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

6. For Facility #2 that you listed in Question #2 what repairs, replacements, expansions, or additions do you think are needed or you would do if you could? (Check all that apply. List facilities in same order as Question #2.)

Facility #2 (specify) | None needed | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Sewage pumpouts | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other specify) | □ | □ | □ | □ | □ | □

6. For Facility #3 that you listed in Question #2 what repairs, replacements, expansions, or additions do you think are needed or you would do if you could? (Check all that apply. List facilities in same order as Question #2.)

Facility #3 (specify): | None needed | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Sewage pumpouts | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

6. For Facility #4 that you listed in Question #2 what repairs, replacements, expansions, or additions do you think are needed or you would do if you could? (Check all that apply. List facilities in same order as Question #2.)

Facility #4 (specify): | None needed | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Sewage pumpouts | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

6. For Facility #5 that you listed in Question #2 what repairs, replacements, expansions, or additions do you think are needed or you would do if you could? (Check all that apply. List facilities in same order as Question #2.)

Facility #5 (specify): | None needed | Repair | Replace | Expand | Add | Does not apply
Transient slips or tie-ups | □ | □ | □ | □ | □ | □
Transient moorings | □ | □ | □ | □ | □ | □
Gasoline facilities | □ | □ | □ | □ | □ | □
Diesel fuel facilities | □ | □ | □ | □ | □ | □
Restrooms | □ | □ | □ | □ | □ | □
Sewage pumpouts | □ | □ | □ | □ | □ | □
Electricity | □ | □ | □ | □ | □ | □
Water | □ | □ | □ | □ | □ | □
Telephone | □ | □ | □ | □ | □ | □
Oil disposal | □ | □ | □ | □ | □ | □
Other (specify) | □ | □ | □ | □ | □ | □
Other (specify) | □ | □ | □ | □ | □ | □

For all of your facilities combined in [name of State], please identify how boaters know about your facilities (Check all that apply.)

Paid advertising | State publications | Chamber of commerce | World wide web | Other (specify) | Other (specify)
□ | □ | □ | □ | □ | □

8. Below is a list of reasons why boaters may use facilities you identified in Question #2. Why do you think the public uses each facility? (Check all that apply for each facility. List facilities in same order as Question #2.)

| Close to population centers | Good boating waters | Good support services (slips, fuel, restrooms, pumpouts, etc.) | Reasonable cost | Swimming opportunities | Fishing opportunities | Other (specify)
Facility #1 | □ | □ | □ | □ | □ | □ | □
Facility #2 | □ | □ | □ | □ | □ | □ | □
Facility #3 | □ | □ | □ | □ | □ | □ | □
Facility #4 | □ | □ | □ | □ | □ | □ | □
Facility #5 | □ | □ | □ | □ | □ | □ | □

9. Please rate the overall condition of the listed facility(s) you listed in Question #2. (Please check one for each facility. List facilities in same order as Question #2.)

| Poor (requires upgrade now) | Fair (will require upgrade within the next 2 to 5 years) | Good (will require upgrade within 5 to 10 years) | Excellent (no improvements needed for 10 years)
Facility #1 | □ | □ | □ | □
Facility #2 | □ | □ | □ | □
Facility #3 | □ | □ | □ | □
Facility #4 | □ | □ | □ | □
Facility #5 | □ | □ | □ | □

10. Do you think there are enough boat tie-up facilities in [name of State]?

□ YES □ NO

11. If public funding sources was available for facility repair, improvement, expansion, or additions, would you be interested?

□ YES □ NO

12. Please provide any comments about facilities not covered in this section.

In accordance with the Paperwork Reduction Act of 1995 (44 U.S.C. 350-1) and the Privacy Act of 1974 (U.S.C. 552), please be advised that:

The gathering of information from applicants to assess recreational boating facility needs is authorized under the Federal Aid in Sport Fish Restoration Act (16 U.S.C. 777-777k). Information from this survey will be used to assess the needs for recreational boating facilities. Your participation in completing this form is not required to obtain benefits under the Boating Infrastructure Grant Program. Once submitted this survey becomes public information and is not protected under the Privacy Act. The public reporting burden for this survey is estimated at 10 to 25 minutes per response, including time for gathering information and completing. Director comments to the Service Information Collection Clearance Officer, (1018-0106), U.S. Fish and Wildlife Service, MS 222-ARLSQ; 1849 C Street N.W., Washington, D.C. 20240.

An agency may not conduct and a person is not required to complete a collection of information unless a currently valid OMB control number is displayed.

PART D

If you operate an access site for trailerable or car top boats under 26 feet in length, please answer the following questions.

IF YOU OPERATE MORE THAN 5 ACCESS SITES PLEASE ESTIMATE FOR ALL YOUR FACILITIES COMBINED, PLACE ANSWERS UNDER FACILITY #1

13. How many boat access sites for boats under 26 feet do you operate in [name of State]?

_____ access sites

14. Please list the access site or sites that you operate or manage in [name of State] for boats under 26 feet in length. (Please list each specific site.)

| Site name | County/city or town | Area (lake, cove, slough, bay, harbor, or section of river) | Lat/long or GPS
Access #1:
Access #2:
Access #3:
Access #4:
Access #5:

15. For each access site listed in Question #14, please indicate any requirements for boater use. (Check all that apply. List access sites in same order as Question #14.)

| None (first come first served) | Club membership required | Reservations required | Fee charged
Access #1 | □ | □ | □ | □
Access #2 | □ | □ | □ | □
Access #3 | □ | □ | □ | □
Access #4 | □ | □ | □ | □
Access #5 | □ | □ | □ | □

16. For each access site listed in Question #14, identify the types of support features at each identified access sites. (Check all that apply. List access sites in same order as Question #14.)

| Carry down paths, etc. | Launch ramps | Boarding floats | Sewage pumpouts | Parking | Restrooms
Access #1 | □ | □ | □ | □
Access #2 | □ | □ | □ | □
Access #3 | □ | □ | □ | □
Access #4 | □ | □ | □ | □
Access #5 | □ | □ | □ | □

For each access site listed in Question #14, what repairs, replacements, expansions, or additions do you think are needed? (Check one for each feature. List access sites in same order as Question #14.)

Access #1 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Sewage pumpouts | □ | □ | □ | □ | □ | □
Other (specify) | □ | □ | □ | □ | □ | □
Other (specify) | □ | □ | □ | □ | □ | □

□
Access #2 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Sewage pumpouts | □ | □ | □ | □ | □ | □
Other (specify) | □ | □ | □ | □ | □ | □
Other (specify) | □ | □ | □ | □ | □ | □

□
Access #3 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Sewage pumpouts | □ | □ | □ | □ | □ | □
Other (specify) | □ | □ | □ | □ | □ | □
Other (specify) | □ | □ | □ | □ | □ | □

□
Access #4 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Sewage pumpouts | □ | □ | □ | □ | □ | □
Other (specify) | □ | □ | □ | □ | □ | □
Other (specify) | □ | □ | □ | □ | □ | □

Access #5 | None needed | Repair | Replace | Expand | Add | Does not apply
Carry-down walkway to | □ | □ | □ | □ | □ | □
Launch ramp | □ | □ | □ | □ | □ | □
Boarding floats | □ | □ | □ | □ | □ | □
Parking | □ | □ | □ | □ | □ | □
Restrooms | □ | □ | □ | □ | □ | □
Sewage pumpouts | □ | □ | □ | □ | □ | □
Other (specify) | □ | □ | □ | □ | □ | □
Other (specify) | □ | □ | □ | □ | □ | □

18. For all of your access sites combined in [name of State], identify how boaters know about your access site(s). (Check all that apply.)

Paid advertising | State publications | Chamber of commerce | World wide web | Other (specify) | Other (specify)
□ | □ | □ | □ | □ | □

19. Below is a list of reasxons why boaters may use access sites you identified in Question #14. Why do you think the public uses each access site? (Check all that apply. List access sites in same order as Question #14.)

| Close to population centers | Good boating waters | Good support services (slips, fuel, restrooms, pumpouts, | Reasonable cost | Fishing opportunities | Swimming opportunities | Other (specify)
Access #1 | □ | □ | □ | □ | □ | □ | □
Access #2 | □ | □ | □ | □ | □ | □ | □
Access #3 | □ | □ | □ | □ | □ | □ | □
Access #4 | □ | □ | □ | □ | □ | □ | □
Access #5 | □ | □ | □ | □ | □ | □ | □

20. Please rate the overall condition of the listed access site(s) you listed in Question #14. (Check one for each access site. List access sites in same order as Question #14.)

| Poor (requires upgrade now) | Fair (will require upgrade within the next 2 to 5 years) | Good (will require upgrade within 5 to 10 years) | Excellent (no improvements needed for 10 years)
Access #1 | □ | □ | □ | □
Access #2 | □ | □ | □ | □
Access #3 | □ | □ | □ | □
Access #4 | □ | □ | □ | □
Access #5 | □ | □ | □ | □

21. Do you think there are enough boat access sites in [state name]?

} Yes } No

22. If public funding sources were available for access repair, improvement, expansion, or additions, would you be interested?

□ Yes □ No

23. Please provide any comments about access sites not covered in this section.

Thank you for your help! If you would like a representative of this State to contact you about any questions and concerns or if you would like additional information about facility and site development funding sources, please list your name, facility, telephone number, and best time to contact you.

Name

Facility

Telephone

Time

In accordance with the Paperwork Reduction Act of 1995 (44 U.S.C. 3501) and the Privacy Act of 1974 (U.S.C. 552), please be advised that:

The gathering of information from applicants to assess recreational boating facility needs facility needs is authorized under the Federal Aid In Sport Fish Restoration Act (16 U.S.C. 777-777k). Information from this survey will be used to assess the needs for recreational boating facilities. Your participation in completing this form is not required to obtain benefits under the Boating Infrastructure Grant Program. Once submitted this survey becomes public information and is not protected under the Privacy Act. The public reporting burden for this survey is estimated at 10 to 25 minutes per response, including time for gathering information and completing. Direct comments to the Service Information Collection Clearance Officer, (1018-0106), U.S. Fish and Wildlife Service, MS 222-ARLSQ; 1849 C Street N.W., Washington, D.C. 20240.

An agency may not conduct and a person is not required to complete a collection of information unless a currently valid OMB control number is displayed.

Dated: October 17, 2000.
Rebecca A. Mullin,
Information Collection Clearance Officer.

[FR Doc. 00-27109 Filed 10-23-00; 8:45 am]

BILLING CODE 4310-55-M